DEPARTMENT OF LABOR

Employment and Training Administration

[TA-W-72,729]

International Paper, Pineville Mill, Industrial Packaging Group, Pineville, LA; Notice of Affirmative Determination Regarding Application for Reconsideration

By application dated November 2, 2009, the company official from the subject firm requested administrative reconsideration of the negative determination regarding workers' eligibility to apply for Trade Adjustment Assistance (TAA) applicable to workers and former workers of the subject firm. The determination was issued on August 20, 2010 and the Notice of Determination was published in the Federal Register on September 3, 2010 (75 FR 54187).

The initial investigation resulted in a negative determination based on the findings that neither the subject firm nor any of its customers imported articles like or directly competitive with uncoated freesheet containerboard produced by the subject firm nor did the subject firm shift production to a foreign country or acquire from another country articles like or directly competitive with the uncoated freesheet containerboard produced at the subject firm. The initial investigation also revealed that the subject firm did not produce a component part that was used by a firm that employed a worker group that is currently eligible to apply for TAA and that directly incorporated the containerboard in the production of the article that was the basis for the TAA certification.

In request for reconsideration, the subject firm provided new information in regard to the product produced by the subject firm.

The Department of Labor has carefully reviewed the request for reconsideration and the existing record, and has determined that the Department will conduct further investigation to determine if the workers meet the eligibility requirements of the Trade Act of 1974.

Conclusion

After careful review of the application, I conclude that the claim is of sufficient weight to justify reconsideration of the U.S. Department of Labor's prior decision. The application is, therefore, granted.

Signed at Washington, DC, this 15th day of October 2010.
Elliott S. Kushner,
Certifying Officer, Office of Trade Adjustment Assistance.

[FR Doc. 2010-27383 Filed 10-28-10; 8:45 am]

BILLING CODE 4510-FN-P